DEPARTMENT OF ENERGY

Federal Energy Regulatory Commission

[Docket No. RP97-71-031]

Transcontinental Gas Pipe Line Corporation; Notice of ICTS Revenue Sharing Refund Report

February 7, 2002.

Take notice that on January 31, 2002, Transcontinental Gas Pipe Line Corporation (Transco) tendered for filing a refund report showing that on January 18, 2002, Transco submitted ICTS revenue sharing refunds (total principal and interest amount of $24,737.99) to all affected shippers in Docket Nos. RP97-71 and RP97-312.

Transco states that section 7 of Transco's Rate Schedule ICTS provides that, during the effectiveness of the Docket No. RP97-71 rate period, which began on May 1, 1997, Transco shall refund annually 75% of the fixed cost component of all revenues collected associated with Rate Schedule ICTS interconnect transfer services charges to maximum rate firm transportation and maximum rate interruptible transportation Buyers (collectively, Eligible Shippers). Transco states that it has calculated that the refund amount for the annual period from May 1, 2000 through April 30, 2001 equals $24,737.99.

Pursuant to section 7 of Rate Schedule ICTS, Transco states that it has refunded that amount to Eligible Shippers based on each Eligible Shipper's actual fixed cost contribution as a percentage of the total fixed cost contribution of all such Eligible Shippers (exclusive of the fixed cost contribution pertaining to service purchased by Seller from third parties).

Any person desiring to protest said filing should file a protest with the Federal Energy Regulatory Commission, 888 First Street, NE., Washington, DC 20426, in accordance with section 385.211 of the Commission's Rules and Regulations. All such protests must be filed on or before February 14, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-3471 Filed 2-12-02; 8:45 am]

BILLING CODE 6717-01-P